DEPARTMENT OF TRANSPORTATION

Federal Aviation Administration

14 CFR Part 39

[Docket No. FAA-2009-1111; Directorate Identifier 2009-NM-147-AD; Amendment 39-16271; AD 2010-09-06]

RIN 2120-AA64

Airworthiness Directives; Bombardier, Inc., Model CL-600-2C10 (Regional Jet Series 700, 701 & 702), CL-600-2D15 (Regional Jet Series 705), and CL-600-2D24 (Regional Jet Series 900) Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During an elevator Power Control Unit (PCU) Centering Functional Check on two CL-600-2C10 aircraft, sustained oscillations were discovered when a control rod was disconnected. These sustained oscillations could render the elevator surface inoperable and cause subsequent loss of pitch control of the aircraft.

* * * * *

Loss of pitch control could result in reduced controllability of the airplane. We are issuing this AD to require actions to correct the unsafe condition on these products.

DATES: This AD becomes effective June 3, 2010.

The Director of the Federal Register approved the incorporation by reference of a certain publication listed in this AD as of June 3, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Christopher Alfano, Aerospace Engineer, Airframe and Mechanical Systems Branch, ANE-171, FAA, New York Aircraft Certification Office, 1600 Stewart Avenue, Suite 410, Westbury, New York 11590; telephone (516) 228-7340; fax (516) 794-5531.

SUPPLEMENTARY INFORMATION:

Discussion

We issued a notice of proposed rulemaking (NPRM) to amend 14 CFR part 39 to include an AD that would apply to the specified products. That NPRM was published in the Federal Register on December 3, 2009 (74 FR 63331). That NPRM proposed to correct an unsafe condition for the specified products. The MCAI states:

During an elevator Power Control Unit (PCU) Centering Functional Check on two CL-600-2C10 aircraft, sustained oscillations were discovered when a control rod was disconnected. These sustained oscillations could render the elevator surface inoperable and cause subsequent loss of pitch control of the aircraft.

This directive mandates incorporation of a new centering mechanism on the elevator torque tube to prevent these sustained oscillations.

Loss of pitch control could result in reduced controllability of the airplane. You may obtain further information by examining the MCAI in the AD docket.

Comments

We gave the public the opportunity to participate in developing this AD. We considered the comment received.

Request To Include Revised Service Information

Comair, Inc., asks that we allow the use of Revision C instead of Revision B of Bombardier Service Bulletin 670BA-27-042 for accomplishing the actions specified in paragraph (f)(1) of the NPRM. Comair, Inc., states that Bombardier has issued Bombardier Service Bulletin 670BA-27-042, Revision C, dated December 10, 2009. We referred to Bombardier Service Bulletin 670BA-27-042, Revision B, dated June 2, 2009, in paragraph (f)(1) of the NPRM as the appropriate source of service information for accomplishing the specified actions.

We agree with the commenter. Bombardier Service Bulletin 670BA-27-042, Revision C, dated December 10, 2009, makes minor updates and editorial changes; no additional work is necessary on airplanes modified in accordance with Revision B. Therefore, we have revised paragraph (f)(1) of this final rule to refer to Bombardier Service Bulletin 670BA-27-042, Revision C, dated December 10, 2009, for accomplishing the specified actions. We have also revised paragraph (f)(2) of this AD to give credit for actions done in accordance with Bombardier Service Bulletin 670BA-27-042, Revision B, dated June 2, 2009.

Explanation of Change Made to This AD

We have changed this AD to identify the correct name of the manufacturer as published in the most recent type certificate data sheet for the affected airplane models.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Explanation of Change to Costs of Compliance

Since issuance of the NPRM, we have increased the labor rate used in the Costs of Compliance from $80 per work hour to $85 per work hour. The Costs of Compliance information, below, reflects this increase in the specified hourly labor rate.

Costs of Compliance

We estimate that this AD will affect 260 products of U.S. registry. We also estimate that it will take about 35 work-hours per product to comply with the basic requirements of this AD. The average labor rate is $85 per work-hour. Required parts will cost about $27,626 per product. Where the service information lists required parts costs that are covered under warranty, we have assumed that there will be no charge for these parts. As we do not control warranty coverage for affected parties, some parties may incur costs higher than estimated here. Based on these figures, we estimate the cost of this AD to the U.S. operators to be $7,956,260, or $30,601 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-09-06 Bombardier, Inc.: Amendment 39-16271. Docket No. FAA-2009-1111; Directorate Identifier 2009-NM-147-AD.

Effective Date

(a) This airworthiness directive (AD) becomes effective June 3, 2010.

Affected ADs

(b) None.

Applicability

(c) This AD applies to the Bombardier, Inc., airplanes identified in paragraphs (c)(1) and (c)(2) of this AD, certificated in any category.

(1) Model CL-600-2C10 (Regional Jet Series 700, 701 & 702) airplanes having serial numbers 10003 through 10259 inclusive.

(2) Model CL-600-2D15 (Regional Jet Series 705) and Model CL-600-2D24 (Regional Jet Series 900) airplanes having serial numbers 15001 through 15099 inclusive.

Subject

(d) Air Transport Association (ATA) of America Code 27: Flight controls.

Reason

(e) The mandatory continuing airworthiness information (MCAI) states:

During an elevator Power Control Unit (PCU) Centering Functional Check on two CL-600-2C10 aircraft, sustained oscillations were discovered when a control rod was disconnected. These sustained oscillations could render the elevator surface inoperable and cause subsequent loss of pitch control of the aircraft.

This directive mandates incorporation of a new centering mechanism on the elevator torque tube to prevent these sustained oscillations.

Loss of pitch control could result in reduced controllability of the airplane.

Actions and Compliance

(f) Unless already done, do the following actions.

(1) Within 6,000 flight hours after the effective date of this AD, install a new PCU centering mechanism, in accordance with the Accomplishment Instructions of Bombardier Service Bulletin 670BA-27-042, Revision C, dated December 10, 2009.

(2) Incorporation of Bombardier Service Bulletin 670BA-27-042, dated October 14, 2008; or Revision A, dated January 8, 2009; before the effective date of this AD, is considered acceptable for compliance with this AD only if Bombardier Repair Engineering Order (REO) 670-27-31-001, dated January 12, 2009; or Bombardier Service Non-Incorporated Engineering Order (SNIEO) S01 or S02 from Bombardier Kit Drawing KBA670-93702, Revision C, dated January 28, 2009; is incorporated at the same time. Incorporation of Bombardier Service Bulletin 670BA-27-042, Revision B, dated June 2, 2009, before the effective date of this AD, is considered acceptable for compliance with the corresponding actions in this AD.

FAA AD Differences

Note 1: This AD differs from the MCAI and/or service information as follows: No differences.

Other FAA AD Provisions

(g) The following provisions also apply to this AD:

(1) Alternative Methods of Compliance (AMOCs): The Manager, New York Aircraft Certification Office, ANE-170, FAA, has the authority to approve AMOCs for this AD, if requested using the procedures found in 14 CFR 39.19. Send information to ATTN: Program Manager, Continuing Operational Safety, FAA, New York ACO, 1600 Stewart Avenue, Suite 410, Westbury, New York 11590; telephone 516-228-7300; fax 516-794-5531. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to Canadian Airworthiness Directive CF-2009-28, dated June 29, 2009; and Bombardier Service Bulletin 670BA-27-042, Revision C, dated December 10, 2009; for related information.

Material Incorporated by Reference

(i) You must use Bombardier Service Bulletin 670BA-27-042, Revision C, dated December 10, 2009, to do the actions required by this AD, unless the AD specifies otherwise.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on April 15, 2010.
Ali Bahrami,
Manager, Transport Airplane Directorate, Aircraft Certification Service.

[FR Doc. 2010-9522 Filed 4-28-10; 8:45 am]

BILLING CODE 4910-13-P